DEPARTMENT OF COMMERCE

National Oceanic and Atmospheric Administration

50 CFR Part 648

[Docket No. 110901552-1021-01]

RIN 0648-BB34

Fisheries of the Northeastern United States; Northeast Multispecies, Monkfish, Atlantic Sea Scallop; Amendment 17

AGENCY: National Marine Fisheries Service (NMFS), National Oceanic and Atmospheric Administration (NOAA), Commerce.

ACTION: Final rule; enforcement of collection-of-information requirements.

SUMMARY: NMFS announces approval by the Office of Management and Budget of collection-of-information requirements for a days-at-sea credit provision for the Northeast multispecies, monkfish, and Atlantic sea scallop fisheries. This final rule sets the enforcement date for the collection-of information requirements.

DATES: The collection-of-information requirements in 50 CFR 648.53, 648.82, and 648.92 are enforced as of May 7, 2012.

ADDRESSES: Written comments regarding the burden-hour estimates or other aspects of the collection-of information requirements contained in this final rule may be submitted to the Northeast Regional Office, NMFS, 55 Great Republic Drive, Gloucester, MA 01930, by email to OIRA_Submission@omb.eop.gov, or by fax to 202-395-7285.

FOR FURTHER INFORMATION CONTACT: Jason Berthiaume, Fisheries Management Specialist, 978-281-9177.

SUPPLEMENTARY INFORMATION:

Background

A final rule to implement measures in Amendment 17 to the Northeast Multispecies Fishery Management Plan was published in the Federal Register on March 23, 2012 (77 FR 16942). That final rule contained a provision for fishing vessels to receive a credit of days-at-sea (DAS) under certain circumstances. A detailed explanation regarding the DAS credit provision is in the final rule and is not repeated here. The information collection requirements associated with the DAS credit provision were published at §§ 648.53, 648.82, and 648.92.

The Office of Management and Budget (OMB) had not yet approved the collection-of-information requirements in §§ 648.53, 648.82, and 648.92 by the date the final rule was submitted to the Office of the Federal Register for publication, and thus those provisions were not enforced when that final rule published in the Federal Register. On March 26, 2012, OMB approved the collection-of-information requirements in the rule. This final rule makes the collection-of-information requirements enforceable.

Classification

NMFS previously solicited public comments on the measures described in the Amendment 17 proposed rule, including this collection of information, through the rulemaking process. NMFS received no comments on the collection of information requirements. Thus, this action merely implements portions of the final rule implementing Amendment 17 that were previously proposed and subjected to public comment, but that under the Paperwork Reduction Act (PRA) required OMB approval in order to become effective. OMB has now approved the collection of information provisions. Because the public has already had an opportunity to comment on these provisions, an additional public comment period is unnecessary.

The Assistant Administrator for Fisheries finds good cause to waive the 30-day delayed enforcement date required by 5 U.S.C. 553 and make this rule enforceable upon publication. This provision is not a restriction, but rather provides a mechanism for small entities to regain lost DAS due to circumstances that were out of their control. Although a DAS credit provision can be requested using existing information collection provisions, the revised collection of information provisions at §§ 648.53, 648.82, and 648.92 are more streamlined and will reduce the administrative burden on regulated entities. A delay in enforcement of 30 days would prevent vessels from utilizing the streamlined form and process NMFS has developed to request a DAS credit, and thus prolong the burdens on vessels.

This final rule has been determined to be not significant for purposes of Executive Order 12866.

Notwithstanding any other provision of the law, no person is required to respond to, and no person shall be subject to penalty for failure to comply with, a collection-of-information requirement subject to the requirements of the PRA, unless that collection-of-information displays a currently valid OMB control number. This final rule contains revisions to collection-of-information requirements subject to the PRA under OMB Control Numbers 0648-0202 and 0648-0212 and was approved by OMB on March 26, 2012.

The collection of information requirements for the DAS credit provision require vessel owners to provide NMFS with an initial notification as well as the submission of a DAS credit request form. The public burden for requesting a DAS credit is estimated to average 15 min per application, including the time for reviewing instructions, searching existing data sources, gathering and maintaining the data needed, and completing and reviewing the collection information.

Based upon permit type, a maximum of 1,908 permits holders could possibly apply for a DAS credit. With an average response time of 15 min, the total burden for applying for a DAS credit is 478 hr. This analysis was conducted assuming each permitted vessel requests one DAS credit per fishing year. Of the 1,908 permit holders, 845 are vessel monitoring system vessels and the remaining 1,063 are assumed to be either interactive voice response vessels or inactive vessels. Although the notification method depends upon the vessels reporting requirements, the associated time burdens will be similar.

Send comments on these burden estimates or any other aspects of these collections-of-information, including suggestions for reducing the burden, by mail to the Northeast Regional Office (see ADDRESSES), by email to OIRA_Submission@omb.eop.gov or by fax to 202-395-7285.

Authority: 16 U.S.C. 1801 et seq.

Dated: May 2, 2012.
Samuel D. Rauch III,
Acting Assistant Administrator for Fisheries, National Marine Fisheries Service.

[FR Doc. 2012-10983 Filed 5-4-12; 8:45 am]

BILLING CODE 3510-22-P